DEPARTMENT OF COMMERCE

International Trade Administration

[A-274-804]

Carbon and Certain Alloy Steel Wire Rod from Trinidad & Tobago: Notice of Court Decision Not In Harmony with Final Determination of the Antidumping Duty Investigation

AGENCY: Import Administration, International Trade Administration, Department of Commerce.

SUMMARY: On July 6, 2007, the United States Court of International Trade (“CIT”) affirmed the remand results made by the U.S. International Trade Commission (“ITC”) pursuant to the CIT's remand of the final determination of the antidumping duty investigation of carbon and certain alloy steel wire rod from Trinidad & Tobago. See Mittal Steel Point Lisas Ltd. v. United States, Slip Op. 07-106, (Ct. Int'l Trade) (July 6, 2007). This case arises out of the ITC's final determination in the antidumping duty investigation. See [Investigations Nos. 701-TA-417-419 and 731-TA-953, 954, 956-959, 961, and 962 (Final)] Carbon and Certain Alloy Steel Wire Rod From Brazil, Canada, Germany, Indonesia, Mexico, Moldova, Trinidad and Tobago, and Ukraine, 67 FR 66662 (November 1, 2002) (“Final Determination”). The judgment in this case was not in harmony with the ITC's Final Determination.

EFFECTIVE DATE: July 16, 2007.

FOR FURTHER INFORMATION CONTACT: Dennis McClure or Stephanie Moore, AD/CVD Operations, Office 3, Import Administration, International Trade Administration, U.S. Department of Commerce, 14th Street and Constitution Avenue, NW, Washington DC 20230; telephone: (202) 482-5973 or (202) 482-3692, respectively.

SUPPLEMENTARY INFORMATION: In Caribbean Ispat Limited v. United States, 366 F. Supp. 2d 1300 (Ct. Int'l Trade 2005), the CIT affirmed the ITC's finding that subject imports from Trinidad and Tobago caused material injury to the domestic industry. In Caribbean Ispat Limited v. United States, 450 F.3d 1336 (Fed. Cir. 2006), the Court of Appeals for the Federal Circuit (“CAFC”) reversed the CIT's judgment, and remanded the case to the CIT with instructions to further remand the case to the ITC so that it may reconsider its causation analysis and directly address whether other dumped or fairly traded imports would have replaced the imports from Trinidad and Tobago without any beneficial effect on domestic producers.

On January 16, 2007, the ITC filed its remand results with the CIT. In the remand results, the ITC determined that it was unable to find that imports from other producers of subject merchandise would not have replaced subject imports from Trinidad and Tobago in the United States market. The ITC further found that the United States is not materially injured or threatened with material injury by reason of imports of subject merchandise from Trinidad and Tobago sold in the United States at less than fair value.

In its decision in Timken Co. v. United States, 893 F.2d 337, 341 (Fed. Cir. 1990) (“Timken”), the CAFC held that, pursuant to section 516A(e) of the Tariff Act of 1930, as amended (“the Act”), the Department must publish a notice of a court decision that is not “in harmony” with an ITC determination, and must suspend liquidation of entries pending a “conclusive” court decision. The CIT's decision in this case on July 6, 2007, constitutes a decision of the court that is not in harmony with the ITC Final Determination. This notice is published in fulfillment of the publication requirements of Timken. Accordingly, the Department will suspend liquidation of subject merchandise entered after the effective date of this notice pending a final and conclusive court decision.

This notice is issued and published in accordance with section 516A(c)(1) of the Act.

Dated: October 26, 2007.
David M. Spooner,
Assistant Secretary for Import Administration.

[FR Doc. E7-21617 Filed 11-1-07; 8:45 am]

BILLING CODE 3510-DS-S